DEPARTMENT OF HEALTH AND HUMAN SERVICES

Centers for Disease Control and Prevention

[30Day-22-0891]

Agency Forms Undergoing Paperwork Reduction Act Review

In accordance with the Paperwork Reduction Act of 1995, the Centers for Disease Control and Prevention (CDC) has submitted the information collection request titled “World Trade Center Health Program Enrollment, Petitions, Designated Representative/HIPAA Authorization, and Member Satisfaction” to the Office of Management and Budget (OMB) for review and approval. CDC previously published a “Proposed Data Collection Submitted for Public Comment and Recommendations” notice on July 22, 2021 to obtain comments from the public and affected agencies. CDC received three comments related to the previous notice but were unrelated to the package. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, using appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

World Trade Center Health Program Enrollment, Petitions, Designated Representative/HIPAA Authorization, and Member Satisfaction (OMB Control No. 0920-0891, Exp. 12/31/2021)—Revision—National Institute for Occupational Safety and Health (NIOSH), Centers for Disease Control and Prevention (CDC).

Background and Brief Description

NIOSH seeks to request OMB approval to revise the currently approved information collection activities that support the World Trade Center (WTC) Health Program. The James Zadroga 9/11 Health and Compensation Act of 2010 (Pub. L. 111-347, as amended by Pub. L. 114-113) created the WTC Health Program to provide medical monitoring and treatment benefits to eligible firefighters and related personnel, law enforcement officers, and rescue, recovery, and cleanup workers who responded to the September 11, 2001, attacks in New York City, at the Pentagon, and in Shanksville, Pennsylvania (responders), and to eligible persons who were present in the dust or dust cloud on September 11, 2001, or who worked, resided, or attended school, childcare, or adult daycare in the New York City disaster area (survivors).

Since its inception in 2011, the WTC Health Program has been approved to collect information from applicants and Program members concerning enrollment, appointment of a designated representative or third party, member satisfaction, and petitions regarding adding a new WTC-related health condition to determine coverage under the Program. The currently approved total estimated burden is 14,063 hours annually (see OMB Control No. 0920-0891, Exp. 12/31/2021). The WTC Health Program has determined that some existing forms need to be updated and some need to be removed from the burden table.

For this revision, the burden hours on the WTC Health Program Applications for Enrollment increased due to an expected increase of application volume. The Program updated the enrollment applications for plain language and improved processing. We estimate 15,837 individuals will submit either a FDNY, General Responder, Pentagon/Shanksville Responder, or WTC Survivor application annually. The burden estimate for the applications is 7,919 hours. This is an increase from 2018 when the estimated annualized burden was 2,251. Of the Applications for Enrollment, we expect to receive per year, we estimate 3,830 of them are General Responder applications from the NY/NJ area and will have to select which clinic they would like to visit. It is expected that it will take the member 0.25 hours to complete the postcard. The burden hours for the General Responder Clinic Postcard are 958 hours.

The Program finds it necessary to update and add new forms to allow applicants and Program members to grant permission to share information with a designated representative or third person about an individual's application or case. We estimate that 1,300 applicants and members will submit a Designated Representative Appointment Form and Designated Representative HIPAA Authorization Form annually. These forms will take approximately 0.25 hours to complete. The burden estimate for these forms is 650 hours.

The Program proposes to extend this information collection to account for adding the WTCHP HIPAA Authorization for Deceased Individuals, WTCHP General HIPAA Authorization to Third Parties, and Designated Representative Revocation Form. The WTCHP HIPAA Authorization for Deceased Individuals was created so a family member and/or personal representative of a deceased applicant or member can request program documentation and/or medical records related to the deceased applicant/member. The WTCHP General HIPAA Authorization to Third Parties was created for members to give the Program permission to share information about their case with a third party, such as a lawyer. The Designated Representative Revocation Form was created for members who wish to remove or replace a currently appointed designated representative. We estimate that 30 applicants or members will submit a WTCHP HIPAA Authorization for Deceased Individuals, 30 applicants will submit a WTCHP General HIPAA Authorization to Third Parties form, and 15 applicants or members will submit a Designated Representative Revocation Form annually. These forms will take no longer than 0.25 hours to complete. The total burden estimate for the WTCHP HIPAA Authorization for Deceased Individuals form and the WTCHP General HIPAA Authorization to Third Parties form is eight hours. The total burden estimate for the Designated Representative Revocation Form is four hours.

The Program also finds it necessary to add a Member Satisfaction Survey. This survey is for WTC Health Program members and asks for feedback about their satisfaction in the Program, at their clinic, and how they would like to receive Program communications. The survey should take no longer than 0.5 hours to complete for a burden estimate of 3,300 burden hours.

The Petition for the addition of a new WTC-Related Health Condition for Coverage was previously approved in 2018. The burden hours for the Petition form decreased to 35 as the Program has received less petitions than anticipated in 2018. The Zadroga Act identified a list of health conditions for which individuals who are enrolled in the WTC Health Program may be monitored or treated [Title XXXIII, § 3312(a)(3)]; those conditions are reiterated and expanded in the associated WTC Health Program regulations at 42 CFR 88.15. Under the regulations, interested parties may submit a petition to request that a new health condition be added to the list of conditions specified in § 88.15. The forms should take no longer than one hour to complete for a burden estimate of 35 burden hours.

CDC requests OMB approval for an estimated 12,882 burden hours. There are no costs to respondents other than their time to participate.

Estimated Annualized Burden Hours
Type of respondents | Form name | Number of respondents | Number of responses per respondent | Average burden per response (in hours)
FDNY Responder | WTC Health Program FDNY Responder Eligibility Application for Enrollment | 140 | 1 | 30/60
General Responder | WTC Health Program Responder Eligibility Application for Enrollment (Other than FDNY) | 6,215 | 1 | 30/60
Pentagon/Shanksville Responder | WTC Health Program Pentagon/Shanksville Responder Application for Enrollment | 242 | 1 | 30/60
WTC Survivor | WTC Health Program Survivor Eligibility Application for Enrollment (all languages) | 9,240 | 1 | 30/60
General responder | Clinic Selection Postcard for new general responders in NY/NJ to select a clinic | 3,830 | 1 | 15/60
Interested Party | Petition for the addition of health conditions | 35 | 1 | 1
Program Applicants or Members | Designated Representative Appointment Form | 1,300 | 1 | 15/60
Program Applicants or Members | Designated Representative HIPAA Release Form to allow the sharing of member information with a third party | 1,300 | 1 | 15/60
Program Members | Member Satisfaction Survey | 6,600 | 1 | 30/60
General Public | WTCHP HIPAA Authorization for Deceased Individuals | 30 | 1 | 15/60
Designated Representative | WTCHP General HIPAA Authorization to Third Parties | 30 | 1 | 15/60
Designated (DR) Representative Revocation Form | DR form that removes the members current designated representative | 15 | 1 | 15/60

Jeffrey M. Zirger,
Lead, Information Collection Review Office, Office of Scientific Integrity, Office of Science, Centers for Disease Control and Prevention.

[FR Doc. 2021-26903 Filed 12-10-21; 8:45 am]

BILLING CODE 4163-18-P